DEPARTMENT OF THE INTERIOR

National Park Service

[NPS-WASO-NRNHL-DTS#-37778; PPWOCRADI0, PCU00RP14.R50000]

National Register of Historic Places; Notification of Pending Nominations and Related Actions

AGENCY: National Park Service, Interior.

ACTION: Notice.

SUMMARY: The National Park Service is soliciting electronic comments on the significance of properties nominated before April 6, 2024, for listing or related actions in the National Register of Historic Places.

DATES: Comments should be submitted electronically by April 30, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 6, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

ARKANSAS

Columbia County

Magnesia Springs Campground, Logoly State Park, Magnolia, SG100010314

Craighead County

Arkansas State University, 2405 Aggie Road, Jonesboro, SG100010315

Faulkner County

Centerville United Methodist Church, 271 McNew Cemetery Road, Greenbrier, SG100010313

Garland County

Velda Rose Tower Motor Hotel, 218 Park A venue, Hot Springs, SG100010312

Jefferson County

Island of Hope Chapel, 2400 State Farm Road, Tucker, SG100010308

Lincoln County

Cummins Prison Chapel, 2540 Highway 388, Grady, SG100010309

Madison County

Wharton Creek Roadside Park, South side of Arkansas Highway 74. approximately 600 feet east of Madison County Road 150, Wharton, SG100010310

Pulaski County

Capitol-Main Historic District (Boundary Increase), 609 and 6 I 5 Main Street, Little Rock, BC100010306

Asher Avenue Overpass, Asher A venue between Appian way Street and South Thayer Street, Little Rock, SG100010307

Red Carpet Inn, 2020 Vance Street, Little Rock, SG100010311

KANSAS

Chase County

Matfield Green High School Gymnasium, (Public Schools of Kansas MPS), 408 Bocook Street, Matfield Green, MP100010290

Crawford County

Carver Social League, 1007 South Elm Street, Pittsburg, SG100010297

Jackson County

Hotel Josephine, 501 Ohio Avenue, Holton, SG100010299

MASSACHUSETTS

Bristol County

Home for Aged People, 1168 Highland Avenue, Fall River, SG100010281

Suffolk County

Columbus Avenue and Bragdon Street Historic District, Roughly bounded by Dimock Street to the north, Amory Street to the west, and West Walnut Park to the south, Boston, SG100010279

Worcester County

Clinton Wire Cloth Company Historic District, 55-104 Sterling Street; 10, 19, and 89 Parker Street, Clinton, SG100010280

Eastwood Cemetery, Old Common-Wilder Road, Lancaster, SG100010282

Old Common Burial Ground, Four Corners-Old Common Road, Lancaster, SG100010283

MICHIGAN

Berrien County

Oak Ridge Cemetery, 818 Terre Coupe Road, Buchanan, SG100010296

MISSISSIPPI

Hinds County

Leonard Court Historic District, Leonard and Botnick Courts, between Farish and Mill Streets, Jackson, SG100010319

NEW HAMPSHIRE

Hillsborough County

Mont Vernon Town Hall, 1 South Main Street, Mont Vernon, SG100010318

PENNSYLVANIA

Mifflin County

Juniata Terrace Historic District, Bound by Delaware Ave., the store on Rt. 103, the school & playgrounds continuing west along Hudson Avenue and Community Avenue, south along 4th St., east to the garages on Delaware Avenue, Borough of Juniata Terrace, SG100010291

TENNESSEE

Carroll County

Webb Public School, 938 Walnut Avenue West, McKenzie, SG100010300

Wilson County

Cedar Heights Farmhouse, 704 Taylor Lane, Mt. Juliet, SG100010336

WEST VIRGINIA

Logan County

Cap Hatfield Gravesite, Overlooking 81, Knights Landing Road, Stirrat, SG100010289

WISCONSIN

Door County

Soper, Dr. Joseph and Olivia, House, 23 North 5th Avenue, Sturgeon Bay, SG100010301

An owner objection received for the following resource(s):

KENTUCKY

Jefferson County

John G. Epping Bottling Works, 702, 705, 708, 712, 718, 725 Logan Street, Louisville, SG100010288

MASSACHUSETTS

Bristol County

Wyoming Mills, (Fall River MRA), 110 Chace St., Fall River, 83004613

A request for removal has been made for the following resource(s):

ARKANSAS

Crawford County

Mulberry River Bridge, (Historic Bridges of Arkansas MPS), Cty Rd. 67, Pleasant Hill vicinity, OT06001272

An additional documentation has been received for the following resource(s):

TENNESSEE

Blount County

Fisher, A. J., House (Additional Documentation), (Blount County MPS), 5311 Dalton Lane, Walland, AD89000877

Davidson County

St. Mary's Catholic Church (Additional Documentation), 330 5th Ave., N, Nashville, AD70000609

Two Rivers (Additional Documentation), 3130 McGavock Pike, Nashville, AD72001238

Hume-Fogg High School (Additional Documentation), 700 Broadway, Nashville, AD74001909

Newsom's Mill (Additional Documentation), 8729 Newsom Station Road, Nashville vicinity, AD76001771

Loudon County

Mason Place (Additional Documentation), 600 Commerce St., Loudon, AD89002029

Maury County

Elm Springs (Additional Documentation), 2357 Park Plus Drive, Columbia vicinity, AD86000402

Rutherford County

Marymont (Additional Documentation), 1126 Rucker Lane, Murfreesboro vicinity, AD73001824

Sullivan County

Clinchfield Railroad Station (Additional Documentation), 101 E Main St., Kingsport, AD73001842

Old Kingsport Presbyterian Church (Additional Documentation), 2049 Greenway Street, Kingsport, AD73001845

Williamson County

Bank of Nolensville (Additional Documentation), (Williamson County MRA), 7287 Nolensville Road, Nolensville, AD88000287

Forest Hills School (Additional Documentation), (Williamson County MRA), Approximately 4064 Carters Creek Pike, Franklin vicinity, AD88000290

Wilson County

Cloyd, John, House (Additional Documentation), Approximately 13978 Lebanon Road, Mount Juliet vicinity, AD74001931

Nomination(s) submitted by Federal Preservation Officers:

TERRITORIAL WATERS

Gulf of Mexico

GREEN LANTERN Shipwreck, (Nineteenth Century Shipwrecks of the Gulf of Mexico), Address Restricted, Gulf of Mexico, MP100010322

SS NEW YORK (Shipwreck), (Nineteenth Century Shipwrecks of the Gulf of Mexico), Address Restricted, Gulf of Mexico, MP100010323

MICA (Shipwreck), (Nineteenth Century Shipwrecks of the Gulf of Mexico), Address Restricted, Gulf of Mexico, MP100010324

EWING BANK (Shipwreck), (Nineteenth Century Shipwrecks of the Gulf of Mexico), Address Restricted, Gulf of Mexico, MP100010329

Gulf of Mexico Shipwreck 15563, (Nineteenth Century Shipwrecks of the Gulf of Mexico), Address Restricted, Gulf of Mexico, MP100010330

VIOSCA KNOLL (Shipwreck), (Nineteenth Century Shipwrecks of the Gulf of Mexico), Address Restricted, Gulf of Mexico, MP100010325

MARDI GRAS (Shipwreck), (Nineteenth Century Shipwrecks of the Gulf of Mexico), Address Restricted, Gulf of Mexico, MP100010326

Gulf of Mexico Shipwreck 15373, (Nineteenth Century Shipwrecks of the Gulf of Mexico), Address Restricted, Gulf of Mexico, MP100010327

Gulf of Mexico Shipwreck 15377, (Nineteenth Century Shipwrecks of the Gulf of Mexico), Address Restricted, Gulf of Mexico, MP100010328

MONTERREY A (Shipwreck), (Nineteenth Century Shipwrecks of the Gulf of Mexico), Address Restricted, Gulf of Mexico, MP100010331

MONTERREY B (Shipwreck), (Nineteenth Century Shipwrecks of the Gulf of Mexico), Address Restricted, Gulf of Mexico, MP100010332

Monterrey C (Shipwreck), (Nineteenth Century Shipwrecks of the Gulf of Mexico), Address Restricted, Gulf of Mexico, MP100010333

VERNON BASIN 2109 (Shipwreck), (Nineteenth Century Shipwrecks of the Gulf of Mexico), Address Restricted, Gulf of Mexico, MP100010334

Authority: Section 60.13 of 36 CFR part 60.

Paul R. Lusignan,
Acting Chief, National Register of Historic Places/National Historic Landmarks Program.

[FR Doc. 2024-07852 Filed 4-12-24; 8:45 am]

BILLING CODE 4312-52-P